DEPARTMENT OF ENERGY

Office of Energy Efficiency and Renewable Energy

[Docket Number: EERE-2016-BT-STD-0013]

Notice of Application From Green Electronics for a Small Business Exemption Regarding Certain Products From the Department of Energy's External Power Supply Energy Conservation Standards

AGENCY: Office of Energy Efficiency and Renewable Energy, Department of Energy.

ACTION: Notice of application for exemption and request for comment.

SUMMARY: This notice announces receipt of and publishes an application submitted by Green Electronics for a small business exemption from the U.S. Department of Energy's (DOE) energy conservation standards for direct operation external power supplies (application) pertaining to certain basic models imported by Green Electronics. Specifically, the application requests a one-year exemption from compliance with the standard beginning on February 10, 2016, the compliance date for such standard. DOE is publishing the non-confidential portion of Green Electronics' application and soliciting comments, data, and information concerning Green Electronics' application.

DATES: DOE will accept comments, data, and information until May 31, 2016.

ADDRESSES: You may submit comments, identified by docket/case number, by any of the following methods:

• Federal eRulemaking Portal: http://www.regulations.gov. Follow the instructions for submitting comments.

• Email: ExemptionExtPowerSupply2016STD0013@ee.doe.gov. Include “docket/case number” in the subject line of the message.

• Mail: Ms. Brenda Edwards, U.S. Department of Energy, Building Technologies Office, Mailstop EE-5B, 1000 Independence Avenue SW., Washington, DC 20585-0121. Telephone: (202) 586-2945. Please submit one signed original paper copy.

• Hand Delivery/Courier: Ms. Brenda Edwards, U.S. Department of Energy, Building Technologies Office, 950 L'Enfant Plaza SW., Suite 600, Washington, DC 20024. Please submit one signed original paper copy.

FOR FURTHER INFORMATION CONTACT: Ms. Ashley Armstrong, U.S. Department of Energy, Building Technologies Office, Mail Stop EE-5B, Forrestal Building, 1000 Independence Avenue SW., Washington, DC 20585-0121. Telephone: (202) 586-0371. Email: ashley.armstrong@ee.doe.gov.

Mr. Michael Kido, U.S. Department of Energy, Office of the General Counsel, Mail Stop GC-33, Forrestal Building, 1000 Independence Avenue SW., Washington, DC 20585-0103. Telephone: (202) 586-8145. Email: Michael.kido@hq.doe.gov.

SUPPLEMENTARY INFORMATION:

I. Background and Authority

Title III of the Energy Policy and Conservation Act of 1975 (42 U.S.C. 6291, et seq.; “EPCA” or, in context, “the Act”) sets forth a variety of provisions designed to improve energy efficiency. (All references to EPCA refer to the statute as amended through the Energy Efficiency Improvement Act of 2015—Pub. L. 114-11 (April 30, 2015).) Part B of title III, which for editorial reasons was re-designated as Part A upon incorporation into the U.S. Code (42 U.S.C. 6291-6309, as codified), establishes the “Energy Conservation Program for Consumer Products Other Than Automobiles.” External power supplies are among the products affected by these provisions.

Under EPCA, the energy conservation program consists essentially of four parts: (1) Testing, (2) labeling, (3) Federal energy conservation standards, and (4) certification and enforcement procedures. The testing requirements consist of test procedures that manufacturers of covered products must use as the basis for (1) certifying to DOE that their products comply with the applicable energy conservation standards adopted under EPCA, and (2) making representations about the efficiency of those products. Similarly, DOE must use these test procedures to determine whether the products comply with any relevant standards promulgated under EPCA.

Consistent with EPCA, DOE has undertaken several rulemakings concerning external power supplies (“EPSs”). Specifically, DOE issued a final rule on March 27, 2009, that defined and added terms and definitions relevant to EPSs to 10 CFR part 430, subpart B, Appendix Z (hereafter referred to as Appendix Z). See 74 FR 13318. In June 2011, DOE further amended Appendix Z by adding a test method for multiple-voltage EPSs. 76 FR 31750 (June 1, 2011). In addition to the test procedure rulemaking activities, DOE undertook a rulemaking to establish energy conservation standards for EPSs. After releasing a preliminary analysis and issuing a notice of proposed rulemaking, DOE published a final rule (hereafter referred to as 2014 standards rulemaking) prescribing new standards for some non-Class A EPSs and amended standards for some Class A EPSs. See 79 FR 7845 (Feb. 10, 2014). As part of this rulemaking, DOE established new definitions for direct operation EPSs and indirect operation EPSs in 10 CFR 430.2. Direct operation EPSs, regardless of whether they are Class A or non-Class A EPSs, are subject to more stringent standards than the statutorily-prescribed Level IV standard requirements. The standards for direct operation EPSs are identified via a Level VI marking per 10 CFR 430.32(w)(4) and are hereafter referred to as Level VI standards in this document. DOE did not establish any standards for indirect operation EPSs. However, indirect operation EPSs that meet the definition of a Class A EPS, are required to meet the statutory Level IV standards already established in EPCA. While the Level IV standards have been in effect since July 1, 2008, as of February 10, 2016, all newly-manufactured or imported direct operation EPSs must comply with the new Level VI standards.¹

¹ Generally, a covered product must comply with the relevant standard in effect as of the date the product is manufactured. For products imported into the U.S., this is the date of importation. See 42 U.S.C. 6291(10) (“The term `manufacture' means to manufacture, produce, assemble or import.”)

II. Application for Exemption

Green Electronics submitted its application requesting a one-year small business exception for specified models of Smart Irrigation Appliance products that use an AC-AC External Power supply (11OV to 24VAC 750mA), part number HELMS-MAN; UA5420240075G. This adapter is a class IV linear transformer and cannot comply with the no load power consumption as required by the February 10, 2016, direct operation standards. These irrigation devices are used to conserve water and are tested to meet EPA's Federal WaterSense certification program.

Green Electronics is asking for an exemption from the current EPS energy conservation standard on the basis of its status as a small business. According to Green Electronics, failure to receive a small business exemption will result in lessening of competition in the market for irrigation controllers.

Under 42 U.S.C. 6295(t), DOE may grant an exemption from an applicable energy conservation standard to a manufacturer if DOE finds that the annual gross revenues of such manufacturer from all its operations (including the manufacture and sale of covered products) does not exceed $8,000,000 for the 12-month period preceding the date of the application. In making this finding, DOE must account for the annual gross revenues of any other person who controls, is controlled by, or is under common control with, such manufacturer. The Secretary may not grant an exemption with respect to any type (or class) of covered product subject to an energy conservation standard unless the Secretary makes a finding, after obtaining the written views of the Attorney General, that a failure to allow an exemption would likely result in a lessening of competition.

IV. Summary and Request for Comments

DOE announces receipt of Green Electronics' application for a small business exemption of certain products from the energy conservation standards that apply to external power supplies. DOE is publishing Green Electronics' application for exemption in its entirety.

DOE solicits comments from interested parties on all aspects of the application. Any person submitting written comments must also send a copy of such comments to the applicant. The contact information for the applicant is: Andrei Bulucea, CTO, Green Electronics LLC, 47801 Fremont Boulevard, Fremont, California 94538. All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

According to 10 CFR 1004.11, any person submitting information that he or she believes to be confidential and exempt by law from public disclosure should submit two copies: One copy of the document including all the information believed to be confidential, and one copy of the document with the information believed to be confidential deleted. DOE will make its own determination about the confidential status of the information and treat it according to its determination.

Issued in Washington, DC, on March 24, 2016.
Kathleen B. Hogan,
Deputy Assistant Secretary for Energy Efficiency, Energy Efficiency and Renewable Energy.

From: Andrei Bulucea,

CTO

Green Electronics LLC

47801 Fremont Bvd

Fremont, CA 94588

Tel: 510-304-3262

To: U.S. Department of Energy

Small Business Exemption

Appliance Efficiency Standards

Assistant Secretary for Conservation and Renewable Energy,

Forrestal Building

1000 Independence Avenue SW.,

Washington, DC 20585.

We are requesting a 1 year exemption for our Irrigation appliance product that is using an AC-AC External Power supply (11OV to 24VAC 750mA), part number HELMS-MAN; UA5420240075G. This adapter is a class IV linear transformer no load power consumption as required by Level VI regulatory framework.

This external AC-AC adapter is used to power our Smart Irrigation Appliance that in turn actuate irrigation valves that require 24VAC. More info about our products can be found at www.rainmachine.com

NOTE: These devices are primarily used to conserve water and they are tested to meet EPA's Federal WaterSense certification program.

We are asking for an exemption from this energy conservation standard based on the fact that our business is generating less than $8M/year in operations. We are attaching necessary documentation about our company, Green Electronics LLC.

Failure to get this exemption will result in lessening of competition in our field of irrigation controllers.

We are the manufacturer of our Irrigation appliances and we do not control or are being controlled by, or we are under common control with another manufacturer or manufacturing entity.

Thank you for your consideration,

Andrei Bulucea

CTO, Green Electronics

[FR Doc. 2016-07281 Filed 3-30-16; 8:45 am]

BILLING CODE 6450-01-P